DEPARTMENT OF ENERGY

Federal Energy Regulatory Commission

[Docket No. PF04-12-000]

Transcontinental Gas Pipe Line Corporation; Notice of Site Visit

June 9, 2004.

On June 29, 2004, the Office of Energy Projects (OEP) staff will conduct a pre-certification site visit of Transcontinental Gas Pipe Line Corporation's (Transco) planned Central New Jersey Expansion Project. The project consists of about 3.5 miles of 36-inch-diameter pipeline that would loop Transco's existing Trenton Woodbury Line in Bordentown and Mansfield Townships, Burlington County, New Jersey.

We will view five of the route variations that are being considered for the planned pipeline expansion. Examination will be by automobile and on foot. Representatives of Transco will be accompanying the OEP staff.

All interested parties may attend. Those planning to attend must provide their own transportation. Those interested in attending should meet at 2 p.m. (e.s.t.) in the parking lot/area of the Ramada Inn, Bordentown, located at 1083 Route 206 North, Bordentown, New Jersey.

For additional information, please contact the Commission's Office of External Affairs at 1-866-208-FERC.

Linda Mitry,
Acting Secretary.

[FR Doc. E4-1362 Filed 6-17-04; 8:45 am]

BILLING CODE 6717-01-P